DEPARTMENT OF THE INTERIOR

Bureau of Land Management

[NVNV106695370]

Withdrawal Application and Public Meeting for the Ruby Mountains; Nevada

AGENCY: Bureau of Land Management, Interior.

ACTION: Notice of withdrawal application.

SUMMARY: The United States Forest Service (USFS) has filed an application requesting that the Secretary of the Interior withdraw approximately 264,441.79 acres of Federal lands in the Ruby Mountains from leasing under the mineral and geothermal laws, for 20 years, subject to valid existing rights. The application also includes approximately 44,670.87 acres of non-Federal lands that would be subject to the withdrawal if they are subsequently acquired by the United States. The purpose of the withdrawal would be to preserve the scenic values, recreational opportunities, outdoor economy, rare wildlife and plant habitat, and cultural resources that the Ruby Mountains and neighboring spaces support. The lands would remain open to location and entry under the U.S. mining laws, and subject to mineral material disposal under the Materials Act of 1947. Publication of this notice temporarily segregates the lands for up to 2 years, initiates a 90-day public comment period, and announces to the public an opportunity to comment and participate in a virtual public meeting on the USFS' withdrawal application.

DATES: All comments must be received by March 31, 2025. In addition, the USFS and the Bureau of Land Management (BLM) will host a virtual public meeting addressing the USFS withdrawal application and associated environmental review process on February 14, 2025 at 2 p.m. PST. The BLM will publish the instructions for access to the online public meeting in the Elko Daily Free Press newspaper a minimum of 30 days prior to the meeting.

ADDRESSES: All comments should be sent to the Bureau of Land Management, Nevada State Office, Attn: Edison Garcia/Ruby Mountain Withdrawal, 1340 Financial Blvd., Reno, NV 89502; or sent by email to edisongarcia@blm.gov. The BLM will not consider comments via telephone calls.

FOR FURTHER INFORMATION CONTACT: Edison Garcia, Land Law Examiner, Nevada State Office at (775) 861-6530; or you may contact the BLM office at the address noted above. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The purpose of the withdrawal would be to preserve the scenic values, recreational opportunities, outdoor economy, rare wildlife and plant habitat, and cultural resources that the Ruby Mountains and neighboring spaces support, by removing these lands from leasing under the Mineral Leasing Act of 1920 (30 U.S.C. 181 et seq., as amended), the Mineral Leasing Act for Acquired Lands of 1947 (30 U.S.C. 351 et seq., as amended), the Geothermal Steam Act of 1970 (30 U.S.C. 1001 et seq., as amended), and section 402 of the President's Reorganization Plan No. 3 of 1946 (16 U.S.C. 520 and 16 U.S.C. 508b). Subject to overlapping withdrawals or segregations of record, the lands would remain open to location and entry under the U.S. mining laws, and subject to mineral material disposal under the Materials Act of 1947 (30 U.S.C. 601 et seq.). The application requests the Secretary of the Interior to withdraw the following Federal lands and interests in lands. In addition, the application requests that any non-Federal lands or interests in lands within the withdrawal application area acquired by the United States in the future also be subject to the withdrawal upon acquisition by the United States:

National Forest System Lands

Federal Surface/Federal Subsurface

Mount Diablo Meridian, Nevada

T. 25 N., R. 56 E.,

Secs. 1 thru 4, partly unsurveyed;

Sec. 5, lots 1 thru 4, S½NE¼, S½NW¼, N½SW¼, SE¼SW¼, and SE¼;

Secs. 9 thru 16 and secs. 21 thru 24, partly unsurveyed;

Sec. 25, N½, unsurveyed.

T. 26 N., R. 56 E.,

Secs. 1 and 2;

Sec. 3, lots 1 thru 3, S½NE¼, SE¼NW¼, and S½;

Sec. 4, lots 3 thru 8, SW¼NE¼, S½NW¼, SW¼, and NW¼SE¼;

Sec. 5 and secs. 8 thru 14;

Sec. 15, N½, NE¼SW¼, N½NW¼SW¼, N½NE¼SE¼, N½SW¼NE¼SE¼, N½SE¼NE¼SE¼, NW¼SE¼, S½SW¼SE¼, S½NE¼SE¼SE¼, S½NW¼SE¼SE¼, and S½SE¼SE¼;

Sec. 16, lots 1 thru 3, W½NE¼, W½, and NW¼SE¼;

Sec. 17;

Sec. 20, W½ and N½SE¼;

Sec. 21, lots 2 and 3, SW¼NE¼, N½SW¼, SW¼SW¼, and W½SE¼;

Sec. 22, NE¼, NE¼NW¼, S½NW¼NW¼, S½NW¼, N½SW¼, SE¼SW¼, and SE¼;

Secs. 23 thru 27;

Sec. 28, lots 3 and 4, SW¼NE¼, S½NW¼, N½SW¼, N½SW¼SW¼, SE¼SW¼, and NW¼SE¼;

Sec. 29, W½NE¼, SE¼NE¼, NW¼, N½SW¼, SW¼SW¼, N½SE¼, and N½SE¼SE¼;

Sec. 32, S½NE¼, W½NW¼, SE¼NW¼, and S½;

Sec. 33, lots 3 thru 6, SW¼NE¼, S½NW¼, and NW¼SE¼;

Secs. 34 thru 36.

T. 27 N., R. 56 E.,

Sec. 1;

Sec. 2, lots 1, 2, and 5, SE¼NE¼, and SE¼;

Sec. 11, NE¼, N½NW¼, N½SW¼NW¼, N½SE¼SW¼NW¼, SE¼NW¼, S½SW¼SW¼SW¼, N½NE¼SE¼, N½SW¼NE¼SE¼, N½SE¼NE¼SE¼, and SE¼SE¼NE¼SE¼;

Sec. 12, N½, N½SW¼, and SE¼;

Sec. 13, NE¼, S½NW¼, and S½;

Sec. 14, S½NE¼, SW¼NW¼NE¼NW¼, SW¼NE¼NW¼, W½SE¼NE¼NW¼, SE¼SE¼NE¼NW¼, W½NE¼NW¼NW¼, SE¼NE¼NW¼NW¼, W½NW¼NW¼, SE¼NW¼NW¼, S½NW¼, S½SW¼, and S½SE¼;

Secs. 23 thru 26;

Sec. 35, N½, N½SW¼, SW¼SW¼, and N½SE¼;

Sec. 36, N½, N½SW¼, SE¼SW¼, and SE¼.

T. 28 N., R. 56 E.,

Sec. 1, lots 5 thru 10;

Sec. 12, lots 1 thru 8;

Sec. 13, lots 1 thru 8;

Sec. 24, lots 1 thru 8;

Sec. 25, lots 1 and 2 and lots 7 thru 16;

Sec. 26, SE¼;

Sec. 35, E½;

Sec. 36.

T. 29 N., R. 56 E.,

Secs. 13, 24, and 25;

Sec. 36, lots 1 and 2, W½NE¼, and NW¼.

T. 25 N., R. 57 E.,

Sec. 3, lots 2 thru 4, SW¼NE¼, S½NW¼, SW¼, NW¼SE¼, and S½SE¼;

Secs. 4 thru 10 and secs. 16 thru 21, partly unsurveyed;

Sec. 28, N½;

Sec. 29, N½;

Sec. 30, lots 1 and 2, NE¼, and E½NW¼.

T. 26 N., R. 57 E.,

Sec. 1, lots 6 and 7 and lots 10 thru 14, SW¼NW¼, and SW¼SW¼;

Secs. 2 thru 10, unsurveyed;

Sec. 11, NE¼, W½, and NW¼SE¼, partly unsurveyed;

Sec. 14, NW¼;

Secs. 15 thru 21, partly unsurveyed;

Sec. 22, NE¼, W½, N½SE¼, and SW¼SE¼, partly unsurveyed;

Sec. 27, W½NE¼, W½, and W½SE¼, partly unsurveyed;

Secs. 28 thru 33, unsurveyed;

Sec. 34, W½, partly unsurveyed.

T. 27 N., R. 57 E.,

Secs. 1 thru 23, unsurveyed;

Sec. 24, NE¼ and W½, unsurveyed;

Sec. 25, lots 1 and 3, NW¼NE¼NW¼NE¼, S½NE¼NW¼NE¼, W½NW¼NE¼, SE¼NW¼NE¼, W½, and SW¼SE¼, partly unsurveyed;

Secs. 26 thru 35, unsurveyed;

Sec. 36, NW¼NE¼, S½NE¼, W½, N½SE¼, and SW¼SE¼, partly unsurveyed.

T. 28 N., R. 57 E.,

Secs. 1 thru 36, unsurveyed;

H.E.S. Nos. 193, 228, and 229.

T. 29 N., R. 57 E.,

Secs. 3 and 4, partly unsurveyed, those portions lying outside of the Ruby Mountains Wilderness boundary;

Sec. 5, lots 1 thru 3, S½NE¼, SE¼NW¼, and S½;

Sec. 7, E½;

Secs. 8 thru 10 and secs. 13 thru 36, partly unsurveyed, those portions lying outside of the Ruby Mountains Wilderness boundary.

T. 30 N., R. 57 E.,

Secs. 1 and 3, those portions lying outside of the Ruby Mountains Wilderness boundary;

Sec. 4, lots 1 thru 4, S½NE¼, S½NW¼, SW¼, NE¼SE¼, and S½SE¼, those portions lying outside of the Ruby Mountains Wilderness boundary;

Sec. 8, NE¼, SW¼, and E½SE¼;

Sec. 9, NW¼NE¼, S½NE¼, NE¼NW¼, SW¼NW¼, NE¼SW¼, S½SW¼, and SE¼;

Sec. 10, NE¼, N½NW¼, SE¼NW¼, and S½, those portions lying outside of the Ruby Mountains Wilderness boundary;

Secs. 11, 14, and 15, those portions lying outside of the Ruby Mountains Wilderness boundary;

Sec. 16, NE¼, N½NW¼, SE¼NW¼, N½SW¼, SE¼SW¼, and SE¼;

Sec. 17, NE¼, N½NW¼, and SE¼NW¼;

Sec. 21, NE¼, NE¼NW¼, S½NW¼, SW¼, and W½SE¼;

Sec. 22, N½, N½SW¼, SE¼SW¼, and SE¼, those portions lying outside of the Ruby Mountains Wilderness boundary;

Sec. 23, that portion lying outside of the Ruby Mountains Wilderness boundary;

Sec. 27, N½, SW¼, NE¼SE¼, and SW¼SE¼, those portions lying outside of the Ruby Mountains Wilderness boundary;

Sec. 28, N½, W½SW¼, SE¼SW¼, and SE¼;

Sec. 29, SE¼NE¼, SE¼SW¼, and SE¼;

Sec. 32, NE¼, E½NW¼, and SE¼;

Sec. 33, N½, N½SW¼, SW¼SW¼, N½SE¼, and SE¼SE¼;

Sec. 34, that portion lying outside of the Ruby Mountains Wilderness boundary.

T. 31 N., R. 57 E.,

Sec. 2, that portion lying outside of the Ruby Mountains Wilderness boundary;

Sec. 10, lots 2 and 3;

Secs. 11 and 13, those portions lying outside of the Ruby Mountains Wilderness boundary;

Sec. 14, NE¼, N½NW¼, SE¼NW¼, NE¼SW¼, and SE¼, those portions lying outside of the Ruby Mountains Wilderness boundary;

Sec. 23, NE¼, NE¼NW¼, S½NW¼, and S½;

Secs. 24 thru 26, those portions lying outside of the Ruby Mountains Wilderness boundary;

Sec. 27, NE¼SW¼, E½NE¼SE¼SW¼, E½SE¼SE¼SW¼, and SE¼, those portions lying outside of the Ruby Mountains Wilderness boundary;

Sec. 33, NE¼NE¼, S½NE¼, and SE¼;

Sec. 34, lots 2 thru 4 and lot 6, NE¼, E½NE¼NE¼NW¼, S½NE¼NW¼, SE¼NW¼, E½SW¼, and SE¼, those portions lying outside of the Ruby Mountains Wilderness boundary;

Secs. 35 and 36, those portions lying outside of the Ruby Mountains Wilderness boundary.

T. 32 N., R. 57 E.,

Secs. 12 and 13 and secs. 24 thru 27;

Sec. 34, N½ and SE¼;

Secs. 35 and 36, those portions lying outside of the Ruby Mountains Wilderness boundary.

T. 28 N., R. 58 E.,

Sec. 4, W½NW¼SW¼ and W½SW¼SW¼;

Sec. 5, W½NE¼, W½, and SE¼, unsurveyed;

Secs. 6 thru 8, unsurveyed;

Sec. 9, W½NW¼NW¼, W½SW¼NW¼, W½NW¼SW¼, and W½SW¼SW¼;

Sec. 17, NE¼, W½, N½SE¼, and SW¼SE¼, partly unsurveyed;

Sec. 18, unsurveyed, excepting M.S. No. 4878;

Sec. 19, unsurveyed;

Sec. 20, W½NE¼, W½, and NW¼SE¼, partly unsurveyed;

Sec. 29, W½;

Sec. 30, unsurveyed;

Sec. 31, NE¼, W½, and E½SE¼, partly unsurveyed;

Sec. 32, W½.

T. 29 N., R. 58 E.,

Sec. 3, lots 1 thru 12;

Secs. 4 and 9, unsurveyed, those portions lying outside of the Ruby Mountains Wilderness boundary;

Sec. 10, lots 3 thru 8;

Sec. 16, lots 1 thru 8, S½NW¼, and SW¼;

Secs. 17 and 20, unsurveyed, those portions lying outside of the Ruby Mountains Wilderness boundary;

Sec. 21, lots 1 thru 10;

Sec. 28, W½NW¼;

Sec. 29, lots 1 thru 8, S½NW¼, SW¼, and NE¼SE¼, those portions lying outside of the Ruby Mountains Wilderness boundary;

Secs. 30 and 31, unsurveyed, those portions lying outside of the Ruby Mountains Wilderness boundary;

Sec. 32, lots 1 thru 12.

T. 30 N., R. 58 E.,

Secs. 1 and 2, those portions lying outside of the Ruby Mountains Wilderness boundary, excepting M.S. No. 4657;

Secs. 3 thru 14 and secs. 17, 18, and 23, partly unsurveyed, those portions lying outside of the Ruby Mountains Wilderness boundary;

Sec. 24, lots 1 thru 3, E½NE¼, W½, and NE¼SE¼;

Sec. 25, W½NW¼;

Sec. 26, lots 1 thru 5, W½NE¼, NW¼, N½SW¼, and NW¼SE¼;

Secs. 27, 33, and 34, those portions lying outside of the Ruby Mountains Wilderness boundary;

Sec. 35, lots 2 thru 5, lots 7 and 8, and W½SW¼.

T. 31 N., R. 58 E.,

Secs. 1 thru 4, secs. 10 thru 12, sec. 19, and secs. 28 thru 36, unsurveyed, those portions lying outside of the Ruby Mountains Wilderness boundary.

T. 32 N., R. 58 E.,

Secs. 2 and 4;

Sec. 5, lots 1 thru 4, S½NE¼, S½NW¼, NE¼SW¼, W½NW¼SW¼, S½SW¼, and SE¼;

Secs. 6 thru 10;

Sec. 11, NW¼;

Secs. 12 thru 14;

Sec. 15, N½, SW¼, NE¼SE¼, NE¼NW¼SE¼, S½NW¼SE¼, and S½SE¼;

Secs. 16 thru 36, those portions lying outside of the Ruby Mountains Wilderness boundary.

T. 33 N., R. 58 E.,

Sec. 24;

Sec. 26, NE¼ and S½;

Sec. 32, S½;

Secs. 34 thru 36.

T. 30 N., R. 59 E.,

Sec. 6, partly unsurveyed;

Sec. 7, NE¼, W½, N½SE¼, and SW¼SE¼, partly unsurveyed;

Sec. 18, lot 4, W½NE¼, NW¼, N½SW¼, SE¼SW¼, and W½NW¼SE¼, partly unsurveyed;

Sec. 19, lots 1 thru 3 and E½NW¼.

T. 31 N., R. 59 E.,

Sec. 2, lot 2 and SW¼NE¼;

Sec. 3, lots 3 and 4, S½NW¼, and SW¼;

Secs. 4 thru 6 and secs. 8 and 9, those portions lying outside of the Ruby Mountains Wilderness boundary;

Sec. 10, NW¼ and W½SW¼;

Sec. 15, lots 4 and 5;

Sec. 16, lots 1 thru 3 and lot 5, W½NE¼, W½, and NW¼SE¼;

Secs. 17 thru 20, those portions lying outside of the Ruby Mountains Wilderness boundary;

Sec. 21, lots 1 thru 4;

Sec. 29, lots 2 thru 4, SW¼NE¼, S½NW¼, and SW¼;

Secs. 30 and 31, those portions lying outside of the Ruby Mountains Wilderness boundary;

Sec. 32, lots 1 thru 8.

T. 32 N., R. 59 E.,

Secs. 4, 6, and 8, those portions lying outside of the Ruby Mountains Wilderness boundary;

Sec. 9, S½, that portion lying outside of the Ruby Mountains Wilderness boundary;

Sec. 17, S½, that portion lying outside of the Ruby Mountains Wilderness boundary;

Secs. 18 and 19, those portions lying outside of the Ruby Mountains Wilderness boundary;

Sec. 23, W½NW¼ and W½SW¼, those portions lying outside of the Ruby Mountains Wilderness boundary;

Sec. 26, lots 1 thru 5 and W½NW¼;

Sec. 27, lots 1 and 2, NE¼, W½, and W½SE¼;

Secs. 28 thru 34, those portions lying outside of the Ruby Mountains Wilderness boundary;

Sec. 35, lots 1 and 2, W½NW¼, and SW¼.

T. 33 N., R. 59 E.,

Sec. 4, that portion lying outside of the Ruby Mountains Wilderness boundary;

Sec. 6, SE¼;

Secs. 8, 10, 14, 16, 18, 20, 22, 26, 30, and 32, those portions lying outside of the Ruby Mountains Wilderness boundary.

T. 34 N., R. 59 E.,

Secs. 12 and 13;

Sec. 23, SE¼;

Secs. 24 thru 26, those portions lying outside of the Ruby Mountains Wilderness boundary;

Sec. 32, S½;

Sec. 34;

Sec. 35, N½, that portion lying outside of the Ruby Mountains Wilderness boundary.

T. 33 N., R. 60 E.,

Sec. 4, lots 3 and 4, S½NW¼, and SW¼;

Secs. 8 and 18, those portions lying outside of the Ruby Mountains Wilderness boundary;

Sec. 20, lots 1 thru 4.

T. 34 N., R. 60 E.,

Sec. 6, lots 2 thru 7, SW¼NE¼, SE¼NW¼, E½SW¼, and W½SE¼;

Sec. 7, lots 1 thru 4, W½NE¼, E½NW¼, E½SW¼, and W½SE¼;

Sec. 18, lots 6 thru 11 and lots 14 thru 19;

Sec. 19, that portion lying outside of the Ruby Mountains Wilderness boundary;

Sec. 20, W½NE¼NE¼, SE¼NE¼NE¼, W½NE¼, SE¼NE¼, W½, and SE¼, those portions lying outside of the Ruby Mountains Wilderness boundary;

Sec. 28, W½;

Sec. 29, that portion lying outside of the Ruby Mountains Wilderness boundary.

T. 35 N., R. 60 E.,

Secs. 1 and 4, those portions lying outside of the East Humboldts Wilderness boundary.

T. 36 N., R. 60 E.,

Sec. 12, NW¼;

Sec. 14, E½SW¼ and SE¼;

Secs. 24, 26, 34, and 36, those portions lying outside of the East Humboldts Wilderness boundary.

T. 37 N., R. 60 E.,

Sec. 36, that portion lying outside of the East Humboldts Wilderness boundary.

T. 33 N., R. 61 E.,

Sec. 3, lots 1 thru 4, N½SW¼NE¼, N½SE¼NE¼, E½SW¼SE¼NE¼, SE¼SE¼NE¼, S½NW¼, N½SW¼, SW¼SW¼, N½NE¼SE¼SW¼, W½SE¼SW¼, and NE¼SE¼;

Secs. 4 and 5 and secs. 8 thru 10;

Sec. 11, S½;

Secs. 14 thru 17 and secs. 20 and 21;

Sec. 22, excepting M.S. No. 4411;

Sec. 23, NW¼;

Sec. 28, N½;

Sec. 29, N½.

T. 34 N., R. 61 E.,

Sec. 2, lots 3 thru 6 and lots 8 thru 11;

Sec. 4, lots 1 thru 3, S½NE¼, SE¼NW¼, and SE¼, those portions lying outside of the East Humboldts Wilderness boundary;

Sec. 11, lots 2 thru 7, S½NW¼, N½SW¼, and N½SE¼, those portions lying outside of the East Humboldts Wilderness boundary;

Sec. 14, that portion lying outside of the East Humboldts Wilderness boundary;

Secs. 16, 18, 20, 22, and 23;

Sec. 26, lots 1 thru 12;

Sec. 27, N½, SW¼, N½SE¼, N½SW¼SE¼, SW¼SW¼SE¼, and W½SE¼SW¼SE¼;

Sec. 28;

Sec. 29, N½ and SE¼;

Sec. 30, lots 1 thru 5, S½NE¼, and SE¼NW¼;

Sec. 32, lots 3 and 4, NE¼, and N½SE¼

Sec. 33;

Sec. 34, lots 1 thru 4, W½NE¼NW¼NE¼, W½NW¼NE¼, W½SE¼NW¼NE¼, W½NE¼SW¼NE¼, W½SW¼NE¼, W½SE¼SW¼NE¼, NW¼, N½SW¼, W½NE¼SE¼, S½SE¼NE¼SE¼, and NW¼SE¼.

T. 35 N., R. 61 E.,

Sec. 3, lots 3 and 4, S½NW¼, and SW¼;

Secs. 4, 6, and 34, those portions lying outside of the East Humboldts Wilderness boundary.

T. 36 N., R. 61 E.,

Secs. 2 thru 4, secs. 8 thru 10, and secs. 15 and 20, those portions lying outside of the East Humboldts Wilderness boundary;

Sec. 22, W½, that portion lying outside of the East Humboldts Wilderness boundary;

Sec. 27, W½, that portion lying outside of the East Humboldts Wilderness boundary;

Sec. 28, that portion lying easterly of the East Humboldts Wilderness boundary;

Secs. 30 and 32;

Sec. 34, W½, that portion lying outside of the East Humboldts Wilderness boundary.

T. 37 N., R. 61 E.,

Sec. 16, lot 1, SE¼NE¼, E½SW¼, and SE¼;

Sec. 20, NE¼, S½NW¼, and S½;

Secs. 22 and 28, those portions lying outside of the East Humboldts Wilderness boundary;

Sec. 30, lots 2 thru 4, NE¼, SE¼NW¼, E½SW¼, and SE¼, those portions lying outside of the East Humboldts Wilderness boundary.

The areas described aggregate 253,392.21 acres, more or less, according to the to the official plats of the surveys of the said lands and protraction diagrams on file with the BLM, combined with areas derived from Forest Service GIS Wilderness data.

Federal Surface/Non-Federal Subsurface

Mount Diablo Meridian, Nevada

T. 30 N., R. 57 E.,

Sec. 4, NW¼SE¼, that portion lying outside of the Ruby Mountains Wilderness boundary;

Sec. 9, NE¼NE¼, NW¼NW¼, SE¼NW¼, and NW¼SW¼;

Sec. 10, SW¼NW¼;

Sec. 16, SW¼NW¼;

Sec. 27, NW¼SE¼ and SE¼SE¼, those portions lying outside of the Ruby Mountains Wilderness boundary;

Sec. 28, NE¼SW¼.

T. 32 N., R. 58 E.,

Sec. 5, E½NW¼SW¼;

Sec. 15, NW¼NW¼SE¼.

T. 33 N., R. 58 E.,

Sec. 33, S½SW¼.

T. 32 N., R. 59 E.,

Secs. 5 and 7;

Sec. 9, N½, that portion lying outside of the Ruby Mountains Wilderness boundary;

Sec. 17, N½, that portion lying outside of the Ruby Mountains Wilderness boundary.

T. 33 N., R. 59 E.,

Sec. 3, that portion lying outside of the Ruby Mountains Wilderness boundary;

Sec. 7, lots 5 thru 9;

Secs. 9, 11, and 15, those portions lying outside of the Ruby Mountains Wilderness boundary;

Sec. 17, lots 3 thru 6, those portions lying outside of the Ruby Mountains Wilderness boundary;

Sec. 19, lots 7 thru 15;

Secs. 23, 27, and 31, those portions lying outside of the Ruby Mountains Wilderness boundary.

T. 34 N., R. 59 E.,

Sec. 35, S½, that portion lying outside of the Ruby Mountains Wilderness boundary.

T. 33 N., R. 60 E.,

Sec. 5, that portion lying outside of the Ruby Mountains Wilderness boundary;

Sec. 17, lots 1 thru 4, NE¼, E½NW¼, and E½SW¼, those portions lying outside of the Ruby Mountains Wilderness boundary;

Sec. 19, lots 1 and 2, NE¼, and E½NW¼, those portions lying outside of the Ruby Mountains Wilderness boundary.

T. 34 N., R. 61 E.,

Secs. 17, 19, and 21.

T. 37 N., R. 61 E.,

Sec. 9, lot 1;

Sec. 29, that portion lying outside of the East Humboldts Wilderness boundary.

The areas described aggregate 7,184.67 acres, more or less, according to the to the official plats of the surveys of the said lands on file with the BLM, combined with areas derived from Forest Service GIS Wilderness data.

Non-Federal Surface/Federal Subsurface

Mount Diablo Meridian, Nevada

T. 27 N., R. 56 E.,

Sec. 11, SW¼SW¼NW¼, S½SE¼SW¼NW¼, N½SW¼SW¼, N½SW¼SW¼SW¼, SE¼SW¼SW¼, S½SW¼NE¼SE¼, and SW¼SE¼NE¼SE¼;

Sec. 13, N½NW¼;

Sec. 14, N½NE¼, NE¼NE¼NW¼, N½NW¼NE¼NW¼, SE¼NW¼NE¼NW¼, NE¼SE¼NE¼NW¼, and NE¼NE¼NW¼NW¼.

T. 26 N., R. 57 E.,

Sec. 1, Small Sites 1 thru 53.

T. 33 N., R. 58 E.,

Sec. 28, lot 4 and SE¼SW¼.

T. 34 N., R. 59 E.,

Sec. 14, E½.

T. 34 N., R. 60 E.,

Secs. 2, 12, and 14.

T. 35 N., R. 60 E.,

Secs. 8 and 20.

The areas described aggregate 3,864.91 acres according to the to the official plats of the surveys of the said lands, on file with the BLM.

Non-Federal Surface/Non-Federal Subsurface

Mount Diablo Meridian, Nevada

T. 25 N., R. 56 E.,

Sec. 5, SW¼SW¼.

T. 26 N., R. 56 E.,

Sec. 3, lot 4 and SW¼NW¼;

Sec. 4, lots 1 and 2;

Sec. 15, S½NW¼SW¼, S½SW¼, S½S½NE¼SE¼, N½SW¼SE¼, and N½N½SE¼SE¼;

Sec. 16, lot 4 and SW¼SE¼;

Sec. 20, NE¼ and S½SE¼;

Sec. 21, lots 1 and 4, NW¼NE¼, NW¼, and SE¼SW¼;

Sec. 22, N½NW¼NW¼ and SW¼SW¼;

Sec. 28, lots 1, 2, 5, and 6, N½NW¼, and S½SW¼SW¼;

Sec. 29, NE¼NE¼, SE¼SW¼, SW¼SE¼, and S½SE¼SE¼;

Sec. 32, N½NE¼ and NE¼NW¼;

Sec. 33, lots 1 and 2, N½NW¼, and SW¼.

T. 27 N., R. 56 E.,

Sec. 11, N½SW¼, SE¼SW¼, W½SE¼, and SE¼SE¼;

Sec. 12, S½SW¼;

Sec. 14, N½SW¼ and N½SE¼;

Sec. 35, SE¼SW¼ and S½SE¼;

Sec. 36, SW¼SW¼.

T. 28 N., R. 56 E.,

H.E.S. No. 230.

T. 28 N., R. 57 E.,

H.E.S. Nos. 190 and 230.

T. 30 N., R. 57 E.,

Sec. 8, W½SE¼;

Sec. 16, SW¼SW¼;

Sec. 17, SW¼NW¼;

Sec. 21, NW¼NW¼ and E½SE¼;

Sec. 22, SW¼SW¼;

Sec. 33, SE¼SW¼ and SW¼SE¼.

T. 31 N., R. 57 E.,

Sec. 14, SE¼SW¼.

T. 32 N., R. 57 E.,

Sec. 1, lots 7 thru 14;

Secs. 11, 14, and 15, secs. 21 thru 23, and sec. 28;

Sec. 34, SW¼.

T. 28 N., R. 58 E.,

M.S. No. 4878;

H.E.S. Nos. 190, 191, and 192.

T. 30 N., R. 58 E.,

M.S. No. 4657.

T. 32 N., R. 58 E.,

Secs. 1 and 3;

Sec. 11, NE¼ and S½.

T. 33 N., R. 58 E.,

Sec. 12, lots 1 thru 4 and W½E½;

Sec. 13, E½;

Sec. 25;

Sec. 33, lots 1 thru 4, S½NE¼, S½NW¼, N½SW¼, and SE¼.

T. 32 N., R. 59 E.,

H.E.S. No. 126.

T. 33 N., R. 59 E.,

Sec. 5;

Sec. 7, lots 1 thru 4 and E½;

Sec. 17, lots 1 and 2, N½, SW¼, and W½SE¼;

Sec. 19, lots 1 thru 6, NE¼, and NW¼SE¼.

T. 34 N., R. 59 E.,

Sec. 23, N½ and SW¼;

Sec. 33, lots 3, 4, 7, and 8, and SW¼;

T. 33 N., R. 60 E.,

Sec. 19, E½SW¼.

T. 34 N., R. 60 E.,

Secs. 1 and 5;

Sec. 6, lot 1, SE¼NE¼, and E½SE¼;

Sec. 7, E½NE¼ and E½SE¼;

Sec. 8, W½ and S½SE¼;

Secs. 11 and 13;

Sec. 16, SW¼NW¼ and NW¼SW¼;

Sec. 17;

Sec. 18, lots 5, 12, 13, and 20;

Sec. 20, NE¼NE¼NE¼;

Sec. 21, W½;

Sec. 22, N½, N½SW¼, and SE¼;

Sec. 33, W½.

T. 35 N., R. 60 E.,

Secs. 5, 17, and 21;

Secs. 25 thru 29 and secs. 32 thru 36, those portions lying outside of the East Humboldts Wilderness boundary.

T. 36 N., R. 60 E.,

Sec. 1, lots 3 and 4, S½NW¼, and SW¼;

Secs. 13, 23, 25, 33, and 35, those portions lying outside of the East Humboldts Wilderness boundary.

T. 37 N., R. 60 E.,

Sec. 25, S½.

T. 33 N., R. 61 E.,

Sec. 3, S½SW¼NE¼, W½SW¼SE¼NE¼, S½NE¼SE¼SW¼, SE¼SE¼SW¼, NW¼SE¼, and S½SE¼;

M.S. No. 4411, that portion lying within section 22.

T. 34 N., R. 61 E.,

Sec. 4, lot 4, SW¼NW¼, and SW¼, those portions lying outside of the East Humboldts Wilderness boundary;

Secs. 5 thru 9, those portions lying outside of the East Humboldts Wilderness boundary;

Sec. 11, lot 1, NE¼NE¼, and S½NE¼, those portions lying outside of the East Humboldts Wilderness boundary;

Sec. 27, E½SE¼SW¼SE¼ and SE¼SE¼;

Sec. 34, NE¼NE¼, E½E½W½NE¼, SE¼NE¼, NE¼NE¼SE¼, and N½SE¼NE¼SE¼.

T. 35 N., R. 61 E.,

Sec. 3, lots 1 and 2, S½NE¼, and SE¼;

Sec. 10, W½;

Sec. 15, W½;

Sec. 22, W½;

Sec. 27, W½;

Secs. 31 and 32.

T. 36 N., R. 61 E.,

Secs. 5 and 11, those portions lying outside of the East Humboldts Wilderness boundary;

Sec. 14, N½ and W½SW¼;

Sec. 19;

Sec. 22, E½;

Sec. 27, E½;

Secs. 29 and 31;

Sec. 34, E½.

T. 37 N., R. 61 E.,

Secs. 21 and 27;

Sec. 30, lot 1 and NE¼NW¼;

Sec. 35, W½.

The areas described aggregate 44,670.87 acres, more or less, according to the official plats of the surveys of the said lands on file with the BLM, combined with areas derived from Forest Service GIS Wilderness data. Non-Federal lands or interests in lands would be subject to the withdrawal if they are subsequently acquired by the United States.

The total areas described, including both Federal and non-Federal lands, aggregate 309,112.66 acres, more or less.

No additional water rights will be needed to fulfill the purpose of this new withdrawal.

Before including your address, phone number, email address, or other personal identifying information in your comment, you should be aware that your entire comment, including your personal identifying information, may be made publicly available at any time. While you can ask us in your comment to withhold your personal identifying information from public review, we cannot guarantee that we will be able to do so.

For a 90-day period from the date of publication of this notice in the Federal Register, all persons who wish to submit comments, suggestions, or objections in connection with the withdrawal application may present their views in writing to the address above. Information regarding the withdrawal application will be available for public review at the BLM's Nevada State Office, during regular business hours, 8 a.m. to 4:30 p.m. Monday through Friday, except Federal holidays.

For a period until December 31, 2026 the Federal land described above will be segregated from all forms of leasing under the mineral and geothermal leasing laws, subject to valid existing rights, unless the application is denied or canceled, or the withdrawal is approved prior to that date. Licenses, permits, cooperative agreements, or discretionary land use authorizations of a temporary nature may be allowed with the approval of the authorized officer, during the temporary segregation period, if they would comply with the applicable USFS land use plans for the described Federal lands located within the withdrawal application boundary.

This application will be processed in accordance with the regulations set forth in 43 CFR part 2300.

(Authority: 43 U.S.C. 1714)

Christopher Bush,
Acting State Director.

[FR Doc. 2024-31389 Filed 12-30-24; 8:45 am]

BILLING CODE 3411-15-P